DEPARTMENT OF TRANSPORTATION

Federal Aviation Administration

Seventeenth Plenary Meeting: RTCA Special Committee 203: Unmanned Aircraft Systems

AGENCY: Federal Aviation Administration (FAA), DOT.

ACTION: Notice of RTCA Special Committee 203: Unmanned Aircraft Systems.

SUMMARY: The FAA is issuing this notice to advise the public of a meeting of RTCA Special Committee 203: Unmanned Aircraft Systems.

DATES: The meeting will be held June 8-10, 2010 at 9 a.m.

ADDRESSES: The meeting will be held at the Willie Miller Instructional Center, Embry-Riddle Aeronautical University, 600 S. Clyde Morris Blvd., Daytona Beach, FL 32124-3900.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for a Special Committee 203: Unmanned Aircraft Systems meeting. The agenda will include:

Tuesday, June 8

• 9 a.m.—Opening Plenary

• Introductory Remarks and Introductions

• Leadership Updates

• FAA Status Reports

• Workgroup reorganization

• TOR Update—Discussion on Changes

• RTCA Workspace Web Tool

• Special Committee Status Overview

• Workgroup Updates

• WG1—Systems Engineering

• WG2—Control and Communications

• WG3—Sense and Avoid

• WG4—Safety

• Close Plenary

• Breakout sessions-Remainder of June 8, 2010; June 9—10, 2010

• June 10, 2010 will conclude with Work Group briefings

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 5, 2010.
Francisco Estrada C.,
RTCA Advisory Committee.

[FR Doc. 2010-11222 Filed 5-10-10; 8:45 am]

BILLING CODE 4910-13-P